FEDERAL COMMUNICATIONS COMMISSION

[Report No. 2580]

Petitions for Reconsideration and Clarification of Action in Rulemaking Proceedings

October 18, 2002.

Petitions for Reconsideration and Clarification have been filed in the Commission's rulemaking proceedings listed in this Public Notice and published pursuant to 47 CFR 1.429(e). The full text of these documents are available for viewing and copying in Room CY-A257, 445 12th Street, SW., Washington, DC or may be purchased from the Commission's copy contractor, Qualex International (202) 863-2893. Oppositions to these petitions must be filed by November 8, 2002. See Section 1.4(b)(1) of the Commission's rules (47 CFR 1.4(b)(1)). Replies to an opposition must be filed within 10 days after the time for filing oppositions has expired.

Subject: Amendment of the FM Table of Allotments (MM Docket No. 98-112, RM-9027, RM-9268, RM-9384).

Number of Petitions Filed: 1.

Subject: In the Matter of the Establishment of Policies and Service Rules for the Non-Geostationary Satellite Orbit, Fixed Satellite Service in the Ku-Band (IB Docket No. 01-96).

Number of Petitions Filed: 1.

Subject: Amendment of the FM Table of Allotments (MM Docket No. 01-104, RM-10103, RM-10323, RM-10324.

Number of Petitions Filed: 1.

Marlene H. Dortch,
Secretary.

[FR Doc. 02-27094 Filed 10-23-02; 8:45 am]

BILLING CODE 6712-01-M